DEPARTMENT OF STATE

[Public Notice 11099]

Call for Reviewers of the World Ocean Assessment

ACTION: Notice; request for comment.

SUMMARY: The U.S. Department of State, in coordination with the Subcommittee on Ocean Science and Technology, requests expert review of the draft World Ocean Assessment.

DATES: Beginning on 27 April 2020, experts may register to review and access the draft WOA at https://review.globalchange.gov, a web-based review and comment system. Reviewers will have until midnight 21 May 2020 to submit their review comments using the web-based review and comment system.

ADDRESSES: Detailed instructions for review and submission of comments are available at https://review.globalchange .gov. Comments submitted as part of this review will not be attributed to individual experts, and no personal information submitted as part of the registration process will be disclosed publicly.

FOR FURTHER INFORMATION CONTACT: Adam Bloomquist, BloomquistA@state.gov, 202-647-0240

SUPPLEMENTARY INFORMATION: The United Nations (UN) undertakes a regular process for global reporting on, and assessment of, the state of the marine environment, including socioeconomic aspects, the product of which is called the World Ocean Assessment (WOA). The first WOA was completed in 2015, and the projected completion date for the second WOA is December 2020, with a goal of documenting trends in the state of the marine environment observed since the publication of the first WOA. The second WOA includes more than fifty subjects grouped within four main themes: Drivers of changes in the marine environment; current state of the marine environment and its trends; trends in pressures on the marine environment; and trends in management approaches to the marine environment. A scientific and technical summary will integrate content to show linkages through interdisciplinary subjects such as human impacts, ecosystem services, and habitats. More information regarding the evolution and methodology of the WOA can be found at https://www.un.org/regularprocess/.

This spring, UN Member States will have an opportunity to review the draft WOA, which is expected to be composed of 65 chapters and subchapters (approximately fifteen pages each) and a technical summary (approximately 70 pages); the outline (https://www.un.org/regularprocess/sites/www.un.org.regularprocess/files/outline_for_the_second_world_ocean_assessment_rev.pdf) illustrates the very wide range of expertise needed for such a review. The Department of State invites experts in relevant fields to participate in the U.S. Government review of the draft WOA.

A Review Coordination Team composed of Federal scientists and program managers will develop a consolidated U.S. Government review submission. Only comments received via the web-based review and comment system within the comment period will be considered by the Review Coordination Team for inclusion in the U.S. Government review submission.

Zachary A. Parker,
Director, Office of Directives Management, U.S. Department of State.

[FR Doc. 2020-08917 Filed 4-27-20; 8:45 am]

BILLING CODE 4710-09-P